DEPARTMENT OF AGRICULTURE

Agricultural Marketing Service

7 CFR Part 1216

[Document Number AMS-FV-13-0089]

Peanut Promotion, Research and Information Order; Continuance Referendum

AGENCY: Agricultural Marketing Service, Agriculture.

ACTION: Referendum order.

SUMMARY: This document directs that a referendum be conducted among eligible producers of peanuts to determine whether they favor continuance of the Peanut Promotion, Research and Information Order (Order).

DATES: The referendum will be conducted from April 7 through April 18, 2014. To vote in this referendum, producers must have paid assessments on peanuts produced during the representative period from January 1 through December 31, 2013, and must currently be a peanut producer.

ADDRESSES: Copies of the Order may be obtained from: Referendum Agent, Promotion and Economics Division (PED), Fruit and Vegetable Program (FVP), AMS, USDA, Stop 0244, Room 1406-S, 1400 Independence Avenue SW., Washington, DC 20250-0244; telephone: (888) 720-9917 (toll free), (202) 720-9915 (direct line); facsimile: (202) 205-2800.

FOR FURTHER INFORMATION CONTACT: Jeanette Palmer, Marketing Specialist, PED, FVP, AMS, USDA, Stop 0244, Room 1406-S, 1400 Independence Avenue SW., Washington, DC 20250-0244; telephone: (888) 720-9917 (toll free), (202) 720-9915 (direct line); facsimile: (202) 205-2800; or electronic mail: Jeanette.Palmer@ams.usda.gov.

SUPPLEMENTARY INFORMATION: Pursuant to the Commodity Promotion, Research and Information Act of 1996 (7 U.S.C. 7411-7425) (Act), it is hereby directed that a referendum be conducted to ascertain whether continuance of the Order is favored by producers of peanuts covered under the program. The Order is authorized under the Act.

The representative period for establishing voter eligibility for the referendum shall be the period from January 1 through December 31, 2013. Persons who are currently producers of peanuts, and who produced peanuts and paid assessments during the representative period are eligible to vote. Persons who received an exemption from assessments for the entire representative period are ineligible to vote. The referendum shall be conducted by mail from April 7 through April 18, 2014.

Section 518 of the Act authorizes continuance referenda. Under section 1216.82 of the Order, the U.S. Department of Agriculture (Department) must conduct a referendum every five years or when 10 percent or more of the eligible peanut producers petition the Secretary of Agriculture to hold a referendum to determine if persons subject to assessment favor continuance of the Order. The Department would continue the Order if continuance is approved by a simple majority of the producers voting in the referendum.

In accordance with the Paperwork Reduction Act of 1995 (44 U.S.C. chapter 35), the referendum ballot has been approved by the Office of Management and Budget (OMB) and assigned OMB No. 0581-0093. It has been estimated that there are approximately 9,208 producers who will be eligible to vote in the referendum. It will take an average of 15 minutes for each voter to read the voting instructions and complete the referendum ballot.

Jeanette Palmer and Sonia Jimenez, PED, FVP, AMS, USDA, Stop 0244, Room 1406-S, 1400 Independence Avenue SW., Washington, DC 20250-0244, are designated as the referendum agents to conduct this referendum. The referendum procedures 7 CFR 1216.100 through 1216.107, which were issued pursuant to the Act, shall be used to conduct the referendum.

The referendum agents will mail the ballots to be cast in the referendum and voting instructions to all known producers prior to the first day of the voting period. Persons who are producers at the time of the referendum and who produced peanuts and paid assessments during the representative period are eligible to vote. Persons who received an exemption from assessments during the entire representative period are ineligible to vote. Any eligible producer who does not receive a ballot should contact the referendum agent no later than one week before the end of the voting period. Ballots must be received by the referendum agent, not later than close of business 4:30 p.m. Eastern time, April 18, 2014, in order to be counted.

List of Subjects in 7 CFR Part 1216

Administrative practice and procedure, Advertising, Consumer information, Marketing agreements, Peanut promotion, Reporting and recordkeeping requirements.

Authority: 7 U.S.C. 7411-7425 and 7 U.S.C. 7401.

Dated: January 10, 2014.
Rex A. Barnes,
Associate Administrator.

[FR Doc. 2014-00773 Filed 1-16-14; 8:45 am]

BILLING CODE 3410-02-P